ELECTION ASSISTANCE COMMISSION

Sunshine Act Notice

AGENCY: U.S. Election Assistance Commission.

ACTION: Notice of public meeting.

Date & Time: Thursday, January 15, 2009, 3-5 p.m.

Place: U.S. Election Assistance Commission, 1201 New York Ave, NW., Washington, DC 20005, (Metro Stop: Metro Center).

Agenda: Commissioners will hold a closed session discussion of the appointment of the EAC General Counsel.

This meeting will be closed to the public.

Person to Contact for Information: Bryan Whitener, Telephone: (202) 566-3100.

Thomas R. Wilkey,
Election Director, U.S. Election Assistance Commission.

[FR Doc. E9-432 Filed 1-8-09; 11:15 am]

BILLING CODE 6820-KF-P